DEPARTMENT OF TRANSPORTATION

Pipeline and Hazardous Materials Safety Administration

Hazardous Materials: Notice of Actions on Special Permits

AGENCY: Pipeline and Hazardous Materials Safety Administration (PHMSA), DOT.

ACTION: Notice of actions on special permit applications.

SUMMARY: In accordance with the procedures governing the application for, and the processing of, special permits from the Department of Transportation's Hazardous Material Regulations, notice is hereby given that the Office of Hazardous Materials Safety has received the application described herein.

DATES: Comments must be received on or before October 15, 2024.

ADDRESSES: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Donald Burger, Chief, Office of Hazardous Materials Safety General Approvals and Permits Branch, Pipeline and Hazardous Materials Safety Administration, U.S. Department of Transportation, East Building, PHH-13, 1200 New Jersey Avenue Southeast, Washington, DC 20590-0001, (202) 366-4535.

SUPPLEMENTARY INFORMATION: Copies of the applications are available for inspection in the Records Center, East Building, PHH-13, 1200 New Jersey Avenue Southeast, Washington DC.

This notice of receipt of applications for special permit is published in accordance with part 107 of the Federal hazardous materials transportation law (49 U.S.C. 5117(b); 49 CFR 1.53(b)).

Issued in Washington, DC, on September 4, 2024.
Donald P. Burger,
Chief, General Approvals and Permits Branch.

Special Permits Data—Granted
Application No. | Applicant | Regulation(s) affected | Nature of the special permits thereof
11032-M | Aerospace & Defense Oxygen Systems | 178.65(f)(3) | To authorize the manufacture, mark, and sale of a non-DOT specification, non-refillable cylinder conforming with all regulations applicable to DOT specification 39 cylinder for the transportation in commerce of materials authorized by the special permit.
11818-M | Raytheon Company | 172.101(j), 173.301(f), 173.302a(a)(1), 173.304a(a)(2) | To modify the special permit to authorize an additional hazardous material and to authorize the military-grade system to be designed and analyzed to MIL-STD-810.
12303-M | Halliburton Energy Services, Inc | 173.201, 173.301(f), 173.304a | To modify the special permit to authorize an additional cylinder design.
16563-M | Call2Recycle, Inc | 173.185(f)(3) | To modify the special permit to increase the weight of batteries that it can carry in a single package.
21063-M | Mission Systems Orchard Park Inc | 173.302(a)(1) | To modify the special permit to update the maximum service pressure and minimum test pressure from 10,300 psig to 9,125 psig and from 12,875 psig to 11,407 psig respectively.
21513-M | The Chemours Company FC LLC | 173.301(f)(2), 177.840(a)(1) | To modify the special permit to authorize the return of cylinders for refilling and to authorize a package QR code in lieu of retaining a copy of the special permit at each location of use.
21551-M | Bollore Logistics Germany GmbH | 172.101(j), 172.300, 172.400, 173.185(a)(1), 173.220, 173.301(f), 173.302a(a)(1) | To modify the special permit to authorize additional departure airports.
21676-N | Anduril Industries, Inc | 172.101(j), 173.185(a)(1) | To authorize the transportation in commerce of prototype lithium ion batteries exceeding 35 kg net weight by cargo-only aircraft.
21677-N | Unipart North America Limited | 172.101(j) | To authorize the transportation in commerce of lithium ion batteries exceeding 35 kg net weight by cargo-only aircraft.
21701-N | Shijiazhuang Enric Gas Equipment Co., Ltd | 173.302a(b)(2), 173.302a(b)(3), 173.302a(b)(4), 173.302a(b)(5), 180.205(c), 180.205(f), 180.205(g), 180.205(i), 180.209(a) | To authorize the transportation in commerce of certain gases in DOT specification 3A, 3AA, 3AX, 3AAX, 3T and in UN ISO 11120 cylinders.
21723-N | Leostella LLC | 173.185(a)(1), 173.302a | To authorize the transportation in commerce of satellites containing low production lithium batteries and non-DOT specification cylinders filled with xenon by motor vehicle and cargo-only aircraft.
21727-N | United States Postal Service | 175.10(a)(18)(ii), 175.10(a)(18)(ii) | To authorize the transportation in commerce of no more than ten spare lithium batteries with watt-hour ratings between 100Wh and 160 Wh in carry-on luggage via passenger-carrying aircraft.
21743-N | Post Warehouse Corp | 173.224(b) | To authorize the one-time transportation in commerce of N,N'-dinitrosopentamethylenetetramine that has not been classed for the purpose of disposal.
21774-N | Tym's LLC | 172.203(a), 172.301(c), 173.309(c) | To authorize the transportation in commerce of non-specification cylinders exceeding 900 mL in capacity and containing a liquefied gas as fire extinguishers.
21806-N | Iteology Inc | 173.185(a)(1) | To authorize the transportation in commerce of prototype lithium cells via cargo-only aircraft.

Special Permits Data—Denied
Application No. | Applicant | Regulation(s) affected | Nature of the special permits thereof
21728-N | RSO, Inc | 173.431(a) | To authorize the transportation in commerce of one Type A package containing a sealed source of 45 Ci of Cs-137 from Laurel, MD to Oak Ridge, TN and from Oak Ridge, TN to Andrews, TX for the purpose of disposal.

Special Permits Data—Withdrawn
Application No. | Applicant | Regulation(s) affected | Nature of the special permits thereof

[FR Doc. 2024-20619 Filed 9-11-24; 8:45 am]

BILLING CODE P